DEPARTMENT OF DEFENSE

Department of the Navy

Record of Decision for the U.S. Marine Corps Basing of MV-22 and H-1 Aircraft in Support of III Marine Expeditionary Force Elements in Hawaii

AGENCY: Department of the Navy, DoD.

ACTION: Notice of Record of Decision.

SUMMARY: Pursuant to Section 102(2)(c) of the National Environmental Policy Act (NEPA) of 1969, 42 United States Code (U.S.C) 4321-4374, as implemented by the Council on Environmental Quality regulations, 40 Code of Federal Regulations (CFR) Parts 1500-1508, Department of the Navy (DoN) NEPA regulations (32 CFR part 775), and Marine Corps Order P5090.2A (with Changes 1 and 2) Marine Corps Environmental Compliance and Protection Manual, Chapter 12, the DoN announces its decision to base and operate up to two Marine Medium Tiltrotor (VMM) squadrons (up to 12 MV-22 Osprey per squadron, for a total of 24 aircraft) and one Marine Light Attack Helicopter (HMLA) squadron (15 AH-1 Cobra attack and 12 UH-1 Huey utility helicopters, for a total of 27 aircraft) in support of III Marine Expeditionary Force elements in Hawaii.

SUPPLEMENTARY INFORMATION: The tiltrotor MV-22 Osprey aircraft provides the “next generation equipment” offering increased speed, longer range, and greater mission versatility than a helicopter. The MV-22 also satisfies the medium-lift capability needed for assault support transport of combat troops, equipment, and supplies. The HMLA squadron will be relocated from Marine Corps Base (MCB) Camp Pendleton to provide rotary-wing light-lift and attack capabilities not currently based in Hawaii and routine training with infantry. The 3d Regiment at MCB Hawaii Kaneohe Bay is the only infantry regiment within the Marine Corps that does not routinely train with rotary-wing light-lift and attack support.

In support of the proposed action to base and operate up to two VMM squadrons and one HMLA squadron in Hawaii, the DoN will: (1) Implement facilities projects at MCB Hawaii Kaneohe Bay to accommodate the squadrons, to include demolition, new construction, and renovation; (2) conduct aviation training, readiness, and special exercise operations at training facilities and federally obligated state airports statewide; and (3) construct improvements at selected training facilities.

All practical means to avoid or minimize environmental harm from the selected alternative have been adopted.

The complete text of the Record of Decision is available for public viewing on the project Web site at www.mcbh.usmc.mil/mv22h1eis along with the Final Environmental Impact Statement and the Programmatic Agreement negotiated under Section 106 of the National Historic Preservation Act. For further information, contact Naval Facilities Engineering Command, Pacific Division, Attn: EV21, MV-22/H-1 EIS Project Manager, 258 Makalapa Drive, Suite 100, Pearl Harbor, HI 96860-3134. Telephone 808-472-1196.

Dated: August 6, 2012.
C.K. Chiappetta,
Lieutenant Commander, Office of the Judge Advocate General, U.S. Navy, Federal Register Liaison Officer.

[FR Doc. 2012-20024 Filed 8-14-12; 8:45 am]

BILLING CODE 3810-FF-P